DEPARTMENT OF AGRICULTURE

Rural Housing Service

Notice of Funds Availability for the Section 533 Housing Preservation Grants for Fiscal Year 2008

Announcement Type: Initial Notice inviting applications from qualified applicants for Fiscal Year 2008.

Catalog of Federal Domestic Assistance Numbers (CFDA): 10.433.

SUMMARY: The Rural Housing Service (RHS), an agency within Rural Development, announces that it is soliciting competitive applications under its Housing Preservation Grant (HPG) program. The HPG program is a grant program which provides qualified public agencies, private nonprofit organizations, which may include, but not be limited to, faith-based and community organizations, and other eligible entities grant funds to assist very low- and low-income homeowners in repairing and rehabilitating their homes in rural areas. In addition, the HPG program assists rental property owners and cooperative housing complexes in repairing and rehabilitating their units if they agree to make such units available to low- and very low-income persons. This action is taken to comply with Agency regulations found in 7 CFR part 1944, subpart N, which require the Agency to announce the opening and closing dates for receipt of preapplications for HPG funds from eligible applicants. The intended effect of this Notice is to provide eligible organizations notice of these dates.

DATES: The closing deadline for receipt of all applications in response to this Notice is 5 p.m., local time for each Rural Development State Office on April 21, 2008. The application closing deadline is firm as to date and hour. RHS will not consider any application that is received after the closing deadline. Applicants intending to mail applications must provide sufficient time to permit delivery on or before the closing deadline date and time. Acceptance by the United States Postal Service or private mailer does not constitute delivery. Facsimile (FAX) and postage due applications will not be accepted.

SUPPLEMENTARY INFORMATION:

Paperwork Reduction Act

The reporting requirements contained in this Notice have been approved by the Office of Management and Budget under Control Number 0575-0115.

Program Administration

I. Funding Opportunities Description

The funding instrument for the HPG Program will be a grant agreement. The term of the grant can vary from 1 to 2 years, depending on available funds and demand. No maximum or minimum grant levels have been established at the National level. You should contact the Rural Development State Office to determine the allocation.

II. Award Information

For Fiscal Year 2008, $9,593,704 is available for the HPG Program. The total includes $656,704 in carryover funds. A set-aside of $595,800 has been established for grants located in Empowerment Zones, Enterprise Communities, and Rural Economic Area Partnership Zones and other funds will be distributed under a formula allocation to states pursuant to 7 CFR part 1940, subpart L, “Methodology and Formulas for Allocation of Loan and Grant Program Funds.” Decisions on funding will be based on pre-applications.

III. Eligibility Information

7 CFR part 1944, subpart N provides details on what information must be contained in the preapplication package. Entities wishing to apply for assistance should contact the Rural Development State Office to receive further information, the State allocation of funds, and copies of the preapplication package. Eligible entities for these competitively awarded grants include state and local governments, nonprofit corporations, which may include, but not be limited to faith-based and community organizations, Federally recognized Indian tribes, and consortia of eligible entities.

Federally recognized Indian tribes, pursuant to 7 CFR 1944.674, are exempt from the requirement to consult with local leaders including announcing the availability of its statement of activities for review in a newspaper.

As part of the application, all applicants must also provide a Dun and Bradstreet Data Universal Numbering System (DUNS) number. As required by the Office of Management and Budget (OMB), all grant applicants must provide a DUNS number when applying for Federal grants, on or after October 1, 2003. Organizations can receive a DUNS number at no cost by calling the dedicated toll-free DUNS number request line at 1-866-705-5711. Additional information concerning this requirement is provided in a policy directive issued by OMB and published in the Federal Register on June 27, 2003 (68 FR 38402-38405).

To comply with the President's Management Agenda, the Department of Agriculture is participating as a partner in the new Government-wide Grants.gov site in FY 2008. Housing Preservation Grants [Catalog of Federal Domestic Assistance No. 10.433] is one of the programs included at this Web site. You may access the electronic grant application for Housing Preservation Grants at: http://www.grants.gov. If you are an applicant under the Housing Preservation Grant Program, you may submit your application to the Agency in either electronic or paper format. Please be mindful that the application deadline for electronic format differs from the deadline for paper format. The electronic format deadline will be based on Eastern Standard Time. The paper format deadline is local time for each Rural Development State Office.

Users of Grants.gov will be able to download a copy of the application package, complete it offline, and then upload and submit the application via the Grants.gov site. You may not e-mail an electronic copy of a grant application to USDA Rural Development; however, the Agency encourages your participation in Grants.gov.

The following are useful tips and instructions on how to use the Web site:

• When you enter the Grants.gov site, you will find information about submitting an application electronically through the site as well as the hours of operation. USDA Rural Development strongly recommends that you do not wait until the application deadline date to begin the application process through Grants.gov. To use Grants.gov, applicants must have a DUNS number.

• You may submit all documents electronically through the Web site, including all information typically included on the Application for Rural Housing Preservation Grants, and all necessary assurances and certifications.

• Your application must comply with any page limit requirements described in this Notice.

• After you electronically submit your application through the Web site, you will receive an automatic acknowledgement from Grants.gov that contains a Grants.gov tracking number.

• RHS may request that you provide original signatures on forms at a later date.

• If you experience technical difficulties on the closing date and are unable to meet the 5 p.m. (Eastern Standard Time) deadline, print out your application and submit it to your State Office; you must meet the closing date and local time deadline.

• Please note that you must locate the downloadable application package for this program by the CFDA Number or FedGrants Funding Opportunity Number, which can be found at http://www.fedgrants.gov.

IV. Application and Submission Information

Applicants wishing to apply for assistance must make its statement of activities available to the public for comment. The applicant(s) must announce the availability of its statement of activities for review in a newspaper of general circulation in the project area and allow at least 15 days for public comment. The start of this 15-day period must occur no later than 16 days prior to the last day for acceptance of pre-applications by USDA Rural Development.

Applicants must also contact the Rural Development State Office serving the place in which they desire to submit an application to receive further information and copies of the application package. Rural Development will date and time stamp incoming applications to evidence timely receipt, and, upon request, will provide the applicant with a written acknowledgment of receipt. A listing of Rural Development State Offices, their addresses, telephone numbers, and person to contact follows:

Note: Telephone numbers listed are not toll-free.

Alabama State Office

Suite 601, Sterling Centre, 4121 Carmichael Road, Montgomery, AL 36106-3683, (334) 279-3455, TDD (334) 279-3495, Judith Druckemiller.

Alaska State Office

800 West Evergreen, Suite 201, Palmer, AK 99645, (907) 761-7740, TDD (907) 761-8905, Debbie I. Davis.

Arizona State Office

Phoenix Courthouse and Federal Building, 230 North First Ave., Suite 206, Phoenix, AZ 85003-1706, (602) 280-8768, TDD (602) 280-8706, Carol Torres.

Arkansas State Office

700 W. Capitol Ave., Rm. 3416, Little Rock, AR 72201-3225, (501) 301-3258, TDD (501) 301-3063, Clinton King.

California State Office

430 G Street, #4169, Davis, CA 95616-4169, (530) 792-5821, TDD (530) 792-5848, Debra Moretton.

Colorado State Office

655 Parfet Street, Room E100, Lakewood, CO 80215, (720) 544-2923, TDD (800) 659-2656, Mary Summerfield.

Connecticut

Served by Massachusetts State Office.

Delaware and Maryland State Office

1221 College Park Drive, Suite 200, Dover, DE 19904, (302) 857-3615, TDD (302) 857-3585, Pat Baker.

Florida & Virgin Islands State Office

4440 NW. 25th Place, Gainesville, FL 32606-6563, (352) 338-3465, TDD (352) 338-3499, Elizabeth M. Whitaker.

Georgia State Office

Stephens Federal Building, 355 E. Hancock Avenue, Athens, GA 30601-2768, (706) 546-2164, TDD (706) 546-2034, Wayne Rogers.

Hawaii State Office

(Services all Hawaii, American Samoa, Guam, and Western Pacific), Room 311, Federal Building, 154 Waianuenue Avenue, Hilo, HI 96720, (808) 933-8300, TDD (808) 933-8321, Gayle Kuheana.

Idaho State Office

Suite A1, 9173 West Barnes Dr., Boise, ID 83709, (208) 378-5628, TDD (208) 378-5644, Joyce Weinzetl.

Illinois State Office

2118 West Park Court, Suite A, Champaign, IL 61821-2986, (217) 403-6222, TDD (217) 403-6240, Barry L. Ramsey.

Indiana State Office

5975 Lakeside Boulevard, Indianapolis, IN 46278, (317) 290-3100 (ext. 423), TDD (317) 290-3343, Stephen Dye.

Iowa State Office

210 Walnut Street, Room 873, Des Moines, IA 50309, (515) 284-4666, TDD (515) 284-4858, Mary Beth Juergens.

Kansas State Office

1303 SW First American Place, Suite 100, Topeka, KS 66604-4040, (785) 271-2721, TDD (785) 271-2767, Virginia M. Hammersmith.

Kentucky State Office

771 Corporate Drive, Suite 200, Lexington, KY 40503, (859) 224-7325, TDD (859) 224-7422, Beth Moore.

Louisiana State Office

3727 Government Street, Alexandria, LA 71302, (318) 473-7962, TDD (318) 473-7655, Yvonne R. Emerson.

Maine State Office

967 Illinois Ave., Suite 4, P.O. Box 405, Bangor, ME 04402-0405, (207) 990-9110, TDD (207) 942-7331, Bob Nadeau.

Maryland

Served by Delaware State Office.

Massachusetts, Connecticut, & Rhode Island State Office

451 West Street, Suite 2, Amherst, MA 01002, (413) 253-4315, TDD (413) 253-4590, Paul Geoffroy.

Michigan State Office

3001 Coolidge Road, Suite 200, East Lansing, MI 48823, (517) 324-5192, TDD (517) 337-6795, Ghulam R. Simbal.

Minnesota State Office

375 Jackson Street Building, Suite 410, St. Paul, MN 55125, (651) 602-7804, TDD (651) 602-7830, Thomas Osborne.

Mississippi State Office

Federal Building, Suite 831, 100 W. Capitol Street, Jackson, MS 39269, (601) 965-4325, TDD (601) 965-5850, Darnella Smith-Murray.

Missouri State Office

601 Business Loop 70 West, Parkade Center, Suite 235, Columbia, MO 65203, (573) 876-9303, TDD (573) 876-9480, Becky Eftink.

Montana State Office

900 Technology Blvd., Suite B, Bozeman, MT 59771, (406) 585-2515, TDD (406) 585-2562, Deborah Chorlton.

Nebraska State Office

Federal Building, Room 152, 100 Centennial Mall N., Lincoln, NE 68508, (402) 437-5557, TDD (402) 437-5093, Lanae Brasch.

Nevada State Office

1390 South Curry Street, Carson City, NV 89703-9910, (775) 887-1222 (ext. 14), TDD (775) 885-0633, Mona Sargent.

New Hampshire State Office

Concord Center, Suite 218, Box 317, 10 Ferry Street, Concord, NH 03301-5004, (603) 223-6046, TDD (603) 229-0536, Sandra Hawkins.

New Jersey State Office

5th Floor North, Suite 500, 8000 Midlantic Drive, Mt. Laurel, NJ 08054, (856) 787-7740, TDD (856) 787-7784, George Hyatt, Jr.

New Mexico State Office

6200 Jefferson St., NE., Room 255, Albuquerque, NM 87109, (505) 761-4944, TDD (505) 761-4938, Carmen N. Lopez.

New York State Office

The Galleries of Syracuse, 441 S. Salina Street, Suite 357, 5th Floor, Syracuse, NY 13202, (315) 736-3316 (ext. 128), TDD (315) 477-6447, Tia Shulkin.

North Carolina State Office

4405 Bland Road, Suite 260, Raleigh, NC 27609, (919) 873-2066, TDD (919) 873-2003, William A. Hobbs.

North Dakota State Office

Federal Building, Room 208, 220 East Rosser, P.O. Box 1737, Bismarck, ND 58502, (701) 530-2046, TDD (701) 530-2113, Barry Borstad.

Ohio State Office

Federal Building, Room 507, 200 North High Street, Columbus, OH 43215-2477, (614) 255-2409, TDD (614) 255-2554, Cathy Simmons.

Oklahoma State Office

100 USDA, Suite 108, Stillwater, OK 74074-2654, (405) 742-1070, TDD (405) 742-1007, Ivan Graves.

Oregon State Office

101 SW. Main, Suite 1410, Portland, OR 97204-3222, (503) 414-3340, TDD (503) 414-3387, Barb Brandon.

Pennsylvania State Office

One Credit Union Place, Suite 330, Harrisburg, PA 17110-2996, (717) 237-2282, TDD (717) 237-2261, Martha E. Hanson.

Puerto Rico State Office

IBM Building, Suite 601, Munoz Rivera Ave., #654, San Juan, PR 00918, (787) 766-5095 (ext. 249), TDD (787) 766-5332, Lourdes Colon.

Rhode Island

Served by Massachusetts State Office.

South Carolina State Office

Strom Thurmond Federal Building, 1835 Assembly Street, Room 1007, Columbia, SC 29201, (803) 253-3432, TDD (803) 765-5697, Larry D. Floyd.

South Dakota State Office

Federal Building, Room 210, 200 Fourth Street, SW., Huron, SD 57350, (605) 352-1132, TDD (605) 352-1147, Roger Hazuka or Pam Reilly.

Tennessee State Office

Suite 300, 3322 West End Avenue, Nashville, TN 37203-1084, (615) 783-1375, TDD (615) 783-1397, Larry Kennedy.

Texas State Office

Federal Building, Suite 102, 101 South Main, Temple, TX 76501, (254) 742-9767, TDD (254) 742-9712, Linda Sultenfuss.

Utah State Office

Wallace F. Bennett Federal Building, 125 S. State Street, Room 4311, Salt Lake City, UT 84138, (801) 524-4329, TDD (801) 524-3309, Kristine Dahlberg.

Vermont State Office

City Center, 3rd Floor, 89 Main Street, Montpelier, VT 05602, (802) 828-6021, TDD (802) 223-6365, Heidi Setien.

Virgin Islands

Served by Florida State Office.

Virginia State Office

Culpeper Building, Suite 238, 1606 Santa Rosa Road, Richmond, VA 23229, (804) 287-1596, TDD (804) 287-1753, CJ Michels.

Washington State Office

1835 Black Lake Blvd., Suite B, Olympia, WA 98512, (360) 704-7730, TDD (360) 704-7742, Robert L. Lund.

Western Pacific Territories

Served by Hawaii State Office.

West Virginia

Parkersburg West Virginia County Office, 91 Boyles Lane, Parkersburg, WV 26104, (304) 422-9070, TDD (304) 284-4836, Penny Thaxton.

Wisconsin State Office

4949 Kirschling Court, Stevens Point, WI 54481, (715) 345-7608 (ext. 111), TDD (715) 345-7614, Peter Kohnen.

Wyoming State Office

P.O. Box 82601, Casper, WY 82602-5006, (307) 233-6716, TDD (307) 233-6733, Alan Brooks.

FOR FURTHER INFORMATION CONTACT: For general information, applicants may contact Bonnie Edwards-Jackson, Senior Loan Specialist, Multi-Family Housing Processing Division, USDA Rural Development, Stop 0781, 1400 Independence Avenue, SW., Washington, DC 20250-0781, telephone (202) 690-0759 (voice) (this is not a toll free number) or (800) 877-8339 (TDD-Federal Information Relay Service) or via e-mail at, Bonnie.Edwards@wdc.usda.gov.

V. Application Review Information

All applications for Section 533 funds must be filed with the appropriate Rural Development State Office and must meet the requirements of this Notice and 7 CFR part 1944, subpart N. Pre-applications determined not eligible and/or not meeting the selection criteria will be notified by the Rural Development State Office.

All applicants will file an original and two copies of Standard Form (SF) 424, “Application For Federal Assistance,” and supporting information with the appropriate Rural Development State Office. A pre-application package, including SF-424, is available in any Rural Development State Office. All pre-applications shall be accompanied by the following information, which Rural Development will use to determine the applicant's eligibility to undertake the HPG program and to evaluate the pre-application under the project selection criteria of § 1944.679 of 7 CFR part 1944, subpart N.

(a) A statement of activities proposed by the applicant for its HPG program as appropriate to the type of assistance the applicant is proposing, including:

(1) A complete discussion of the type of and conditions for financial assistance for housing preservation, including whether the request for assistance is for a homeowner assistance program, a rental property assistance program, or a cooperative assistance program;

(2) The process for selecting recipients for HPG assistance, determining housing preservation needs of the dwelling, performing the necessary work, and monitoring/inspecting work performed;

(3) A description of the process for identifying potential environmental impacts in accordance with § 1944.672 of 7 CFR part 1944, subpart N, and the provisions for compliance with Stipulation I, A-G of the Programmatic Memorandum of Agreement, also known as PMOA, (RD Instruction 2000-FF, available in any Rural Development State Office) in accordance with § 1944.673(b) of 7 CFR part 1944, subpart N;

(4) The development standard(s) the applicant will use for the housing preservation work; and, if not the Rural Development standards for existing dwellings, the evidence of its acceptance by the jurisdiction where the grant will be implemented;

(5) The time schedule for completing the program;

(6) The staffing required to complete the program;

(7) The estimated number of very low- and low-income minority and nonminority persons the grantee will assist with HPG funds; and, if a rental property or cooperative assistance program, the number of units and the term of restrictive covenants on their use for very low- and low-income;

(8) The geographical area(s) to be served by the HPG program;

(9) The annual estimated budget for the program period based on the financial needs to accomplish the objectives outlined in the proposal. The budget should include proposed direct and indirect administrative costs, such as personnel, fringe benefits, travel, equipment, supplies, contracts, and other cost categories, detailing those costs for which the grantee proposes to use the HPG grant separately from non-HPG resources, if any. The applicant budget should also include a schedule (with amounts) of how the applicant proposes to draw HPG grant funds, i.e., monthly, quarterly, lump sum for program activities, etc.;

(10) A copy of a indirect cost proposal as required in 7 CFR parts 3015, 3016, and 3019, when the applicant has another source of federal funding in addition to the Rural Development HPG program;

(11) A brief description of the accounting system to be used;

(12) The method of evaluation to be used by the applicant to determine the effectiveness of its program which encompasses the requirements for quarterly reports to Rural Development in accordance with § 1944.683(b) of 7 CFR part 1944, subpart N and the monitoring plan for rental properties and cooperatives (when applicable) according to § 1944.689 of 7 CFR part 1944, subpart N;

(13) The source and estimated amount of other financial resources to be obtained and used by the applicant for both HPG activities and housing development and/or supporting activities;

(14) The use of program income, if any, and the tracking system used for monitoring same;

(15) The applicant's plan for disposition of any security instruments held by them as a result of its HPG activities in the event of its loss of legal status;

(16) Any other information necessary to explain the proposed HPG program; and

(17) The outreach efforts outlined in § 1944.671(b) of 7 CFR part 1944, subpart N.

(b) Complete information about the applicant's experience and capacity to carry out the objectives of the proposed HPG program.

(c) Evidence of the applicant's legal existence, including, in the case of a private nonprofit organization, which may include, but not be limited to, faith-based and community organizations, a copy of, or an accurate reference to, the specific provisions of State law under which the applicant is organized; a certified copy of the applicant's Articles of Incorporation and Bylaws or other evidence of corporate existence; certificate of incorporation for other than public bodies; evidence of good standing from the State when the corporation has been in existence 1 year or more; and the names and addresses of the applicant's members, directors and officers. If other organizations are members of the applicant-organization, or the applicant is a consortium, pre-applications should be accompanied by the names, addresses, and principal purpose of the other organizations. If the applicant is a consortium, documentation showing compliance with paragraph (4)(ii) under the definition of “organization” in § 1944.656 of 7 CFR part 1944, subpart N must also be included.

(d) For a private nonprofit entity, which may include, but not be limited to faith-based organizations, the most recent audited statement and a current financial statement dated and signed by an authorized officer of the entity showing the amounts and specific nature of assets and liabilities together with information on the repayment schedule and status of any debt(s) owed by the applicant.

(e) A brief narrative statement which includes information about the area to be served and the need for improved housing (including both percentage and the actual number of both low-income and low-income minority households and substandard housing), the need for the type of housing preservation assistance being proposed, the anticipated use of HPG resources for historic properties, the method of evaluation to be used by the applicant in determining the effectiveness of its efforts.

(f) Applicant must submit an original and one copy of Form RD 1940-20, “Request for Environmental Information,” prepared in accordance with Exhibit F-1 of RD Instruction 1944-N (available in any Rural Development State Office).

(g) Applicant must also submit a description of its process for:

(1) Identifying and rehabilitating properties listed on or eligible for listing on the National Register of Historic Places;

(2) Identifying properties that are located in a floodplain or wetland;

(3) Identifying properties located within the Coastal Barrier Resources System; and

(4) Coordinating with other public and private organizations and programs that provide assistance in the rehabilitation of historic properties (Stipulation I, D, of the PMOA, RD Instruction 2000-FF, available in any Rural Development State Office).

(h) The applicant must also submit evidence of the State Historic Preservation Office's, also known as SHPO, concurrence in the proposal, or in the event of nonconcurrence, a copy of SHPO's comments together with evidence that the applicant has received the Advisory Council on Historic Preservation's advice as to how the disagreement might be resolved, and a copy of any advice provided by the Council.

(i) The applicant must submit written statements and related correspondence reflecting compliance with § 1944.674(a) and (c) of 7 CFR part 1944, subpart N regarding consultation with local government leaders in the preparation of its program and the consultation with local and state government pursuant to the provisions of Executive Order 12372.

(j) The applicant is to make its statement of activities available to the public for comment prior to submission to Rural Development pursuant to § 1944.674(b) of 7 CFR part 1944, subpart N. The application must contain a description of how the comments (if any were received) were addressed.

(k) The applicant must submit an original and one copy of Form RD 400-1, “Equal Opportunity Agreement,” and Form RD 400-4, “Assurance Agreement,” in accordance with § 1944.676 of 7 CFR part 1944, subpart N.

Applicants should review 7 CFR part 1944, subpart N for a comprehensive list of all application requirements.

VI. Selection Criteria

The Rural Development State Offices will utilize the following project selection criteria for applicants in accordance with § 1944.679 of 7 CFR part 1944, subpart N:

(a) Providing a financially feasible program of housing preservation assistance. “Financially feasible” is defined as proposed assistance which will be affordable to the intended recipient or result in affordable housing for very low- and low-income persons.

(b) Serving eligible rural areas with a concentration of substandard housing for households with very low- and low-income.

(c) Being an eligible applicant as defined in § 1944.658 of 7 CFR part 1944, subpart N.

(d) Meeting the requirements of consultation and public comment in accordance with § 1944.674 of 7 CFR part 1944, subpart N.

(e) Submitting a complete preapplication as outlined in § 1944.676 of 7 CFR part 1944, subpart N.

For applicants meeting all of the requirements listed above, the Rural Development State Offices will use weighted criteria in accordance with 7 CFR part 1944, subpart N as selection for the grant recipients. Each preapplication and its accompanying statement of activities will be evaluated and, based solely on the information contained in the preapplication, the applicant's proposal will be numerically rated on each criteria within the range provided. The highest-ranking applicant(s) will be selected based on allocation of funds available to the state.

(a) Points are awarded based on the percentage of very low-income persons that the applicant proposes to assist, using the following scale:

(1) More than 80%: 20 points.

(2) 61% to 80%: 15 points.

(3) 41% to 60%: 10 points.

(4) 20% to 40%: 5 points.

(5) Less than 20%: 0 points.

(b) The applicant's proposal may be expected to result in the following percentage of HPG fund use (excluding administrative costs) to total cost of unit preservation. This percentage reflects maximum repair or rehabilitation with the least possible HPG funds due to leveraging, innovative financial assistance, owner's contribution or other specified approaches. Points are awarded based on the following percentage of HPG funds (excluding administrative costs) to total funds:

(1) 50% or less: 20 points.

(2) 51% to 65%: 15 points.

(3) 66% to 80%: 10 points.

(4) 81% to 95%: 5 points.

(5) 96% to 100%: 0 points.

(c) The applicant has demonstrated its administrative capacity in assisting very low- and low-income persons to obtain adequate housing based on the following:

(1) The organization or a member of its staff has 2 or more years experience successfully managing and operating a rehabilitation or weatherization type program: 10 points.

(2) The organization or a member of its staff has 2 or more years experience successfully managing and operating a program assisting very low- and low-income persons obtain housing assistance: 10 points.

(3) If the organization has administered grant programs, there are no outstanding or unresolved audit or investigative findings which might impair carrying out the proposal: 10 points.

(d) The proposed program will be undertaken entirely in rural areas outside Metropolitan Statistical Areas, also known as MSAs, identified by Rural Development as having populations below 10,000 or in remote parts of other rural areas (i.e., rural areas contained in MSAs with less than 5,000 population) as defined in § 1944.656 of 7 CFR part 1944, subpart N: 10 points.

(e) The program will use less than 20 percent of HPG funds for administration purposes:

(1) More than 20%: Not eligible.

(2) 20%: 0 points.

(3) 19%: 1 point.

(4) 18%: 2 points.

(5) 17%: 3 points.

(6) 16%: 4 points.

(7) 15% or less: 5 points.

(f) The proposed program contains a component for alleviating overcrowding as defined in § 1944.656 of 7 CFR part 1944, subpart N: 5 points.

In the event more than one preapplication receives the same amount of points, those preapplications will then be ranked based on the actual percentage figure used for determining the points. Further, in the event that preapplications are still tied, then those preapplications still tied will be ranked based on the percentage for HPG fund use (low to high). Further, for applications where assistance to rental properties or cooperatives is proposed, those still tied will be further ranked based on the number of years the units are available for occupancy under the program (a minimum of 5 years is required). For this part, ranking will be based from most to least number of years.

Finally, if there is still a tie, then a lottery system will be used.

VII. Non-Discrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), (202) 720-6382 (TDD). “USDA is an equal opportunity provider, employer, and lender.”

Dated: February 8, 2008.
Russell T. Davis,
Administrator, Rural Housing Service.

[FR Doc. 08-690 Filed 2-19-08; 8:45 am]

BILLING CODE 3410-XV-P